NUCLEAR REGULATORY COMMISSION

Proposed License Renewal Interim Staff Guidance LR-ISG-2006-02: Staff Guidance on Acceptance Review for Environmental Reports Associated With License Renewal Applications; Solicitation of Public Comment

AGENCY: Nuclear Regulatory Commission (NRC).

ACTION: Solicitation of public comment.

SUMMARY: The NRC is soliciting public comment on its Proposed License Renewal Interim Staff Guidance LR-ISG-2006-02 (LR-ISG) on the acceptance review criteria for environmental reports (ER) provided by applicants for reactor license renewal. This LR-ISG summarizes the Title 10 of the Code of Federal Regulations Part 51 (10 CFR Part 51) requirements for ERs submitted with license renewal applications (LRAs), and provides a checklist that will be used by the NRC staff to verify the completeness of these reports prior to docketing. The NRC staff issues LR-ISGs to facilitate timely implementation of the license renewal rule and to review activities associated with an LRA. Upon receiving public comments, the NRC staff will evaluate the comments and make a determination to incorporate the comments, as appropriate. Once the NRC staff completes the LR-ISG, it will issue the LR-ISG for NRC and industry use. The NRC staff will also incorporate the approved LR-ISG into the next revision of the license renewal guidance documents.

DATES: Comments may be submitted by April 17, 2007. Comments received after this date will be considered, if it is practical to do so, but the Commission is able to ensure consideration only for comments received on or before this date.

ADDRESSES: Comments may be submitted to: Chief, Rulemaking, Directives, and Editing Branch, Office of Administration, U.S. Nuclear Regulatory Commission, Washington, DC 20555-0001. Comments should be delivered to: 11545 Rockville Pike, Rockville, Maryland, Room T-6D59, between 7:30 a.m. and 4:15 p.m. on Federal workdays. Persons may also provide comments via e-mail at rgs@nrc.gov. The NRC maintains an Agencywide Documents Access and Management System (ADAMS), which provides text and image files of NRC's public documents. These documents may be accessed through the NRC's Public Electronic Reading Room on the Internet at http://www.nrc.gov/reading-rm/adams.html. Persons who do not have access to ADAMS or who encounter problems in accessing the documents located in ADAMS should contact NRC Public Document Room (PDR) reference staff at 1-800-397-4209, 301-415-4737, or by e-mail at pdr@nrc.gov.

FOR FURTHER INFORMATION CONTACT: Ms. Jennifer A. Davis, Project Manager, Office of Nuclear Reactor Regulation, U.S. Nuclear Regulatory Commission, Washington,DC 20555-0001; telephone 301-415-3835 or by e-mail at jxd10@nrc.gov.

SUPPLEMENTARY INFORMATION: Attachment 1 to this Federal Register notice, entitled Staff Position and Rationale for the Proposed License Renewal Interim Staff Guidance LR-ISG-2006-02: Staff Guidance on Acceptance Review for Environmental Reports Associated with License Renewal Applications, contains the NRC staff's rationale for publishing the proposed LR-ISG-2006-02. Attachment 2 to this Federal Register notice, entitled Proposed License Renewal Interim Staff Guidance LR-ISG-2006-02: Staff Guidance on Acceptance Review for Environmental Reports Associated with License Renewal Applications, identifies the guidance for reviewing ERs received with LRAs.

The NRC staff is issuing this notice to solicit public comments on the proposed LR-ISG-2006-02. After the NRC staff considers any public comments, it will make a determination regarding issuance of the proposed LR-ISG.

Dated at Rockville, Maryland this 8th day of February, 2007.
For the Nuclear Regulatory Commission.
Pao-Tsin Kuo,
Acting Director, Division of License Renewal, Office of Nuclear Reactor Regulation.

Attachment 1—Staff Position and Rationale for the Proposed License Renewal Interim Staff Guidance LR-ISG-2006-02: Staff Guidance on Acceptance Review for Environmental Reports Associated With License Renewal Applications

Staff Position

The NRC staff intends to use a checklist of acceptance criteria when evaluating environmental reports submitted with license renewal applications. This guidance summarizes the 10 CFR Part 51 requirements for environmental reports submitted with license renewal applications, and provides a checklist that documents the review process used by NRC staff to verify the completeness of these reports.

Rationale

The NRC developed a checklist of the requirements in 10 CFR Part 51 to document the NRC staff's acceptance review standards regarding the information that needs to be included in an environmental report. The staff finds that the utilization of the guidance provided in the checklist will facilitate consistency and efficiency in the NRC staff's acceptance reviews of environmental reports submitted with license renewal applications.

Attachment 2—Proposed License Renewal Interim Staff Guidance lR-ISG-2006-02: Staff Guidance on Acceptance Review for Environmental Reports Associated With License Renewal Applications

Introduction

Each applicant for renewal of a license to operate a nuclear power plant is required to submit with its application a separate environmental report (ER) in accordance with Title 10 of the Code of Federal Regulations (10 CFR 54.23). As stated in 10 CFR 54.23, the ER must comply with the requirements of Subpart A of 10 CFR Part 51. The requirements governing the contents of an ER submitted at the operating license renewal stage are specified in 10 CFR 51.45 and 10 CFR 51.53(c). This LR-ISG is being proposed to document the staff's practice in performing an acceptance review of ERs submitted as part of a license renewal application.

Background and Discussion

The NRC staff routinely reviews ERs against the requirements of 10 CFR 51.45 and 10 CFR 51.53(c) as part of the acceptance review of reactor license renewal applications. Staff review guidance governing reactor license renewal environmental reviews and the preparation of environmental impact statements is provided in NUREG-1555, Standard Review Plans for Environmental Reviews for Nuclear Power Plants, Supplement 1: Operating License Renewal.

In conducting its acceptance review, the staff also relies on the guidance provided to applicants in Regulatory Guide 4.2, Supplement 1, Preparation of Supplemental Environmental Reports for Applications to Renew Nuclear Power Plant Operating Licenses. The regulatory guide provides methods acceptable to the staff for implementing the provisions of 10 CFR 51.45 and 10 CFR 51.53(c). While conformance with the suggested format of the regulatory guide is not required, use of the guide is expected to ensure the completeness of the information provided, assist the NRC staff and others in locating information, and result in more efficient and timely NRC staff review.

Proposed Action

The acceptance review checklist for ERs submitted with license renewal applications, available via ADAMS at Accession No. ML063190452, will be incorporated into the next revision of NUREG-1555, Supplement 1. The acceptance checklist is intended to be a tool to ensure efficiency and consistency in the staff's acceptance reviews and ensure that all necessary components of license renewal stage ERs are submitted in accordance with governing regulations. As noted in the checklist instructions, the absence of any of the information recommended in Regulatory Guide 4.2, Supplement 1, would not require that supplemental information be provided prior to acceptance of an application; however, applicants should expect that the absence of such information may result in more intensive environmental audit activities and/or issuance of early requests for additional information to support the staff's review. The docketing and subsequent finding of a timely and sufficient application (including the ER) does not preclude NRC reviewers from requesting additional information as a review proceeds, nor does it predict the NRC's final determination regarding the approval or denial of a license renewal application. This proposed LR-ISG is not intended to substitute or re-interpret requirements outlined in 10 CFR 51.45 and 10 CFR 51.53(c). The checklist is also expected to serve as a knowledge management tool for NRC staff members by specifying review criteria in a simplified, user-friendly format.

[FR Doc. E7-2785 Filed 2-15-07; 8:45 am]

BILLING CODE 7590-01-P